DEPARTMENT OF LABOR

Employment and Training Administration

[TA-W-72,355]

Flanders Tool Company, Inc., Flanders, NJ; Notice of Negative Determination on Reconsideration

On January 4, 2010, the Department of Labor issued a Negative Determination Regarding Eligibility to apply for worker adjustment assistance for the workers and former workers of Flanders Tool Company, Flanders, New Jersey (the subject firm). The Department's Notice was published in the Federal Register on February 16, 2010 (75 FR 7039).

By application dated February 12, 2010, the petitioner requested administrative reconsideration of the negative determination regarding workers' eligibility to apply for Trade Adjustment Assistance (TAA) applicable to workers and former workers of the subject firm. At the request of the petitioners, the Department conducted further investigation to determine if the workers meet the eligibility requirements of the Trade Act of 1974, as amended. Workers are engaged in employment related to the production of precision cutting tools and drills.

Pursuant to 29 CFR 90.18(c), reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The initial negative determination was based on the findings that there was no increase in imports by the workers' firm or customers of articles like or directly competitive with precision cutting tools and drills, or a shift to/acquisition from a foreign country by the workers' firm in the production of articles like or directly competitive with precision cutting tools and drills, and that the workers' firm did not produce and supply directly component parts (or services) to a firm that both employed a worker group eligible to apply for TAA and directly used the component parts (or services) in the production of the article or in the supply of the service that was the basis for the TAA certification.

The request for reconsideration stated that the subject firm supplies products to certified customers.

Information obtained during the reconsideration investigation confirmed that the subject firm did not produce and supply directly component parts to a firm that both employed a worker group eligible to apply for TAA and directly used the component parts in the production of the article or in the supply of the service that was the basis for the TAA certification.

While tools and capital equipment are used in the production of an article, they are not component parts.

Information obtained during the reconsideration investigation confirmed that, during the relevant period, the major declining customers of the subject firm did not directly or indirectly import articles like or directly competitive with the precision cutting tools and drills produced by the subject firm.

Conclusion

After reconsideration, I affirm the original notice of negative determination of eligibility to apply for worker adjustment assistance for workers and former workers of Flanders Tool Company, Flanders, New Jersey.

Signed in Washington, DC, on this 4th day of March 2011.
Del Min Amy Chen,
Certifying Officer, Office of Trade Adjustment Assistance.

[FR Doc. 2011-6193 Filed 3-16-11; 8:45 am]

BILLING CODE 4510-FN-P